DEPARTMENT OF EDUCATION

Direct Grant Programs

AGENCY: Department of Education.

ACTION: Correction; Notice reopening competitions or extending application deadline dates for certain direct grants.

On September 28, 2001, we published in the Federal Register (66 FR 49644) a notice reopening competitions or extending application deadline dates for certain direct grants. In the chart, (66 FR 49645), under Office of Special Education and Rehabilitative Services, the name of the competition for CFDA No. 84.133P was stated incorrectly as “Field-Initiated Projects.” This notice corrects that name to read “Advanced Rehabilitation Research Training Projects.”

FOR FURTHER INFORMATION CONTACT: The address and telephone number for obtaining an application for, or information about, this competition are in the original application notice for this competition published in the Federal Register on July 31, 2001 (66 FR 39612).

If you use a telecommunications device for the deaf (TDD), you may call the TDD number, if any, listed in the application notice. If we have not listed a TDD number, you may call the Federal Information Relay Service (FIRS) at 1-800-877-8339.

If you are an individual with a disability, you may obtain a copy of this notice in an alternative format (e.g., Braille, large print, audiotape, or computer diskette) on request to the contact person listed in the application notice.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: October 1, 2001.
Mark Carney,
Deputy Chief Financial Officer.

[FR Doc. 01-25129 Filed 10-5-01; 8:45 am]

BILLING CODE 4000-01-U